DEPARTMENT OF TRANSPORTATION

Surface Transportation Board

[Docket No. FD 35908]

Nittany and Bald Eagle Railroad Company—Trackage Rights Exemption—Norfolk Southern Railway Company

Norfolk Southern Railway Company (NSR), pursuant to a written trackage rights agreement (Agreement) ¹ dated February 1, 2015, has agreed to grant non-exclusive, overhead trackage rights to Nittany and Bald Eagle Railroad Company (N&BE) over NSR's line of railroad between milepost BR 194.2 at Lock Haven, Pa., and milepost BR 139.2 at Driftwood, Pa., a distance of 55 miles.²

¹ A redacted version of the Agreement between NSR and N&BE was filed with the notice of exemption. N&BE simultaneously filed a motion for protective order to protect the confidential and commercially sensitive information contained in the unredacted version of the Agreement, which N&BE submitted under seal in this proceeding. That motion will be addressed in a separate decision.

² N&BE was previously authorized non-exclusive, temporary, overhead trackage rights over the 55 miles of rail line that expired on December 30, 2014. See Nittany & Bald Eagle R.R.—Temp. Trackage Rights Exemption—Norfolk S. Ry., FD 35793, (STB served Feb. 7, 2014).

The transaction may be consummated on or after April 26, 2015, the effective date of the exemption (30 days after the verified notice of exemption was filed). The purpose of the trackage rights is to allow N&BE to operate bridge train service for certain seasonal traffic.

As a condition to this exemption, any employees affected by the acquisition of the trackage rights will be protected by the conditions imposed in Norfolk & Western Railway—Trackage Rights—Burlington Northern, Inc., 354 I.C.C. 605 (1978), as modified in Mendocino Coast Railway, Inc.—Lease & Operate—California Western Railroad, 360 I.C.C. 653 (1980), and any employees affected by the discontinuance of those trackage rights will be protected by the conditions set out in Oregon Short Line Railroad—Abandonment Portion Goshen Branch Between Firth & Ammon, in Bingham & Bonneville Counties, Idaho, 360 I.C.C. 91 (1979).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed no later than April 17, 2015 (at least 7 days before the exemption becomes effective).

An original and 10 copies of all pleadings, referring to Docket No. FD 35908, must be filed with the Surface Transportation Board, 395 E Street SW., Washington, DC 20423-0001. In addition, a copy of each pleading must be served on Richard R. Wilson, 518 N. Center Street, Ste. 1, Ebensburg, PA 15931.

Board decisions and notices are available on our Web site at “WWW.STB.DOT.GOV.”

Decided: April 6, 2015.
By the Board, Joseph H. Dettmar, Acting Director, Office of Proceedings.
Raina S. Contee,
Clearance Clerk.

[FR Doc. 2015-08252 Filed 4-9-15; 8:45 am]

BILLING CODE 4915-01-P